DEPARTMENT OF THE INTERIOR

National Park Service

Notice of Inventory Completion: Oregon State University, Department of Anthropology, Corvallis, OR

AGENCY: National Park Service, Interior.

ACTION: Notice.

Notice is here given in accordance with the Native American Graves Protection and Repatriation Act (NAGPRA), 25 U.S.C. 3003, of the completion of an inventory of human remains in the control of Oregon State University, Department of Anthropology, Corvallis, OR. The human remains were removed from an unknown location in Hawaii.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Oregon State University, Department of Anthropology professional staff in consultation with representatives of the Office of Hawaiian Affairs.

On an unknown date, human remains representing a minimum of three individuals were removed from an unknown location in Hawaii. The human remains were donated to the Department of Anthropology by Dr. T. Tillman of the Oregon State University Physical Education Department upon his retirement (H0001-086-001, H0001-077-001, and H0001-081-0001). Dr. Tillman received the skulls from the widow of an unknown collector between 1940 and 1978. No known individuals were identified. No associated funerary objects are present.

The collection records state that all three individuals are “Indian.” The Department of Anthropology's physical anthropology faculty confirms that all three skulls have cranial morphology consistent with Native Hawaiian ancestry. According to collection records and consultation, the human remains were removed from locations in the traditional and current territory of Native Hawaiian organizations. Consultation with the Office of Hawaiian Affairs supports the origins of these three individuals from the Hawaiian Islands.

Officials of the Oregon State University, Department of Anthropology have determined that, pursuant to 25 U.S.C. 3001(9-10), the human remains described above represent the physical remains of three individuals of Native Hawaiian ancestry. Officials of the Oregon State University, Department of Anthropology have determined that, pursuant to 25 U.S.C. 3001(2), there is a relationship of shared group identity that can be reasonably traced between the Native Hawaiian human remains and the Hui Malama I Na Kupuna O Hawai'i Nei and Office of Hawaiian Affairs.

Representatives of any other Native Hawaiian Organization that believes itself to be culturally affiliated with the human remains should contact Dr. David McMurray, Oregon State University Department of Anthropology, 238 Waldo Hall, Corvallis, OR 97331, telephone (541) 737-4515, before May 19, 2008. Repatriation of the human remains to the Office of Hawaiian Affairs may proceed after that date if no additional claimants come forward.

Oregon State University, Department of Anthropology is responsible for notifying the Hawaii Island Burial Council; Hui Malama I Na Kupuna O Hawai'i Nei; Kauai/Niihau Island Burial Council; Maui/Lanai Island Burial Council; Molokai Island Burial Council; O'ahu Burial Committee, and the Office of Hawaiian Affairs that this notice has been published.

Dated: March 18, 2008.
Sherry Hutt,
Manager, National NAGPRA Program.

[FR Doc. E8-8294 Filed 4-16-08; 8:45 am]

BILLING CODE 4312-50-S